DEPARTMENT OF THE INTERIOR

National Park Service

Notice of Availability of the Record of Decision (ROD) for the Tuskegee Airmen National Historic Site General Management Plan and Final Environmental Impact Statement (GMP/FEIS)

AGENCY: National Park Service, Department of the Interior.

ACTION: Notice of Availability.

SUMMARY: Pursuant to 42 U.S.C. 4332(2)(C) of the National Environmental Policy Act of 1969 and National Park Service (NPS) policy in Director's Order Number 2 (Park Planning) and Director's Order Number 12 (Conservation Planning, Environmental Impact Analysis, and Decision-making) the NPS announces the availability of the ROD for the GMP/FEIS for the Tuskegee Airmen National Historic Site, Tuskegee, Alabama. On August 11, 2010, the Regional Director, NPS, Southeast Region, approved the ROD for the project. The ROD includes a description of the project's background, a decision statement, synopses of other alternatives considered, the basis for the final decision, findings on impairment of the site's resources and values, a description of the environmentally preferable alternative, and an overview of public and agency involvement in the planning process.

DATES: The ROD was signed by the Regional Director, NPS, Southeast Region, on August 11, 2010.

ADDRESSES: Copies of the ROD are available by contacting the Park Superintendent at the Tuskegee Airmen National Historic Site (NHS), 1616 Chappie James Avenue, Tuskegee, Alabama 36083; telephone: 334-727-6390.

SUPPLEMENTARY INFORMATION: Five alternatives were evaluated in the EIS. Alternative A, the no-action alternative, described current management of the site and served as a basis for comparison in evaluating the other alternatives. Alternative B emphasized the natural environment by keeping Tuskegee Airmen NHS largely undeveloped and natural in character outside of the core historic area. Alternative C aims to restore much of the Park to its historic 1945 appearance. Alternative D is the selected alternative. It preserves and protects cultural resources and the core historic area while offering the most diversity of visitor interpretive programs, natural areas, and recreational opportunities. Alternative E preserved the core historic area and offered the most recreational opportunities.

Among the five alternatives considered, the selected alternative best protects the diversity of Park resources while also maintaining a range of quality visitor experiences, meets NPS purposes and goals for the Tuskegee Airmen NHS, and meets National Environmental Policy Act goals. The selected alternative will not result in the impairment of Park resources and will allow the NPS to conserve Park resources and provide for their enjoyment by visitors.

Authority : The authority for publishing this notice is 40 CFR. 1506.6.

FOR FURTHER INFORMATION CONTACT: Contact the Superintendent, Tuskegee Airmen NHS, at the address and telephone number shown above. An electronic copy of the ROD is available on the Internet at http://parkplanning.nps.gov.

The responsible official for this ROD is the Regional Director, Southeast Region, NPS, 100 Alabama Street, SW., 1924 Building, Atlanta, Georgia 30303.

Dated: September 20, 2010.
David Vela,
Regional Director, Southeast Region.

[FR Doc. 2010-29539 Filed 11-23-10; 8:45 am]

BILLING CODE 4312-KB-P